DEPARTMENT OF ENERGY

Federal Energy Regulatory Commission

[Docket No. RP04-25-001]

Texas Eastern Transmission, L; Notice of Supplemental Filing

November 20, 2003.

Take notice that on November 17, 2003, Texas Eastern Transmission, LP (Texas Eastern) tendered for filing as part of its FERC Gas Tariff, Seventh Revised Volume No. 1, Fourth Revised Sheet No. 51B, to become effective December 1, 2003.

Texas Eastern states that the revised tariff sheet is filed as a supplement to its annual ASA filing made on October 17, 2003 in Docket No. RP04-25-000 (October 17 Filing). Texas Eastern states that the purpose of the supplemental filing is to comply with the Commission's requirement in its letter order dated February 7, 2003 in Docket Nos. CP02-17-004 and CP02-45-004 that Texas Eastern include in its next annual ASA filing either: (1) A demonstration that no gas is likely to be lost or unaccounted for on the Hanging Rock and Freehold laterals or (2) a mechanism to determine the amount of such losses and a rate to separately charge such lateral shippers for such losses.

Texas Eastern states that it is proposing an Applicable Shrinkage Percentage for lost and unaccounted for gas applicable to lateral service on the Hanging Rock and Freehold laterals, based upon the comparable lost and unaccounted for gas included in the October 17 Filing for system customers.

Texas Eastern states that copies of its filing have been mailed or, if requested, emailed to all affected customers of Texas Eastern and interested state commissions, as well as all parties on the Commission's official service list in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00412 Filed 11-28-03; 8:45 am]

BILLING CODE 6717-01-P